DEPARTMENT OF TRANSPORTATION

Federal Highway Administration

23 CFR Part 655

[FHWA Docket No. FHWA-2016-0036]

National Standards for Traffic Control Devices; the Manual on Uniform Traffic Control Devices for Streets and Highways; Request for Information Related to Use of Clearview Font

AGENCY: Federal Highway Administration (FHWA), DOT.

ACTION: Request for Information.

SUMMARY: The Manual on Uniform Traffic Control Devices for Streets and Highways (MUTCD) is incorporated by reference in regulation, approved by FHWA, and recognized as the national standard for traffic control devices used on all streets, highways, bikeways, and private roads open to public travel. This document is a Request for Information (RFI) related to the use of the Clearview letter style on highway signs.

DATES: Responses to this RFI should be submitted by January 27, 2017. The FHWA will consider late-filed responses to the extent possible.

ADDRESSES: To ensure that you do not duplicate your docket submissions, please submit them by only one of the following means:

• Federal eRulemaking Portal: Go to http://www.regulations.gov and follow the online instructions for submitting comments.

• Mail: Docket Management Facility, U.S. Department of Transportation, 1200 New Jersey Avenue SE., W12-140, Washington, DC 20590.

• Hand Delivery: West Building Ground Floor, Room W12-140, 1200 New Jersey Avenue SE., between 9 a.m. and 5 p.m., e.t., Monday through Friday, except Federal holidays. The telephone number is 202-366-9329.

• Instructions: You must include the agency name and docket number at the beginning of your comments. All comments received will be posted without change to http://www.regulations.gov, including any personal information provided.

FOR FURTHER INFORMATION CONTACT: For questions about this notice, contact Mr. Martin Calawa, MUTCD Team, FHWA Office of Transportation Operations, (603) 410-4864, or via email at Martin.Calawa@dot.gov. For legal questions, please contact Mr. William Winne, Office of the Chief Counsel, (202) 366-1397, or via email at William.Winne@dot.gov. Office hours are from 8:00 a.m. to 4:30 p.m., e.t., Monday through Friday, except Federal holidays.

SUPPLEMENTARY INFORMATION:

Purpose of the Request

On January 25, 2016, FHWA published a document in the Federal Register (81 FR 4083) officially terminating the Interim Approval for Use of Clearview Font for Positive Contrast Legends on Guide Signs (IA-5), which was issued September 2, 2004. The termination discontinued the provisional use of an alternative letter style in traffic control device applications. The result of this termination rescinded the allowance of the use of letter styles other than FHWA Standard Alphabets on traffic control devices except as provided otherwise in the MUTCD and within the document. Existing signs that use the provisional letter style and comply with IA-5 were unaffected by the termination and may remain in place as long as they are in serviceable condition. The termination did not create a mandate for the removal or installation of any sign.

Following the publication of the termination in the Federal Register and prior to its effective date, FHWA posted a Technical Memorandum ¹ and a Technical Brief ² on the MUTCD Web site. The Technical Memorandum provided guidance to the Federal-aid Highway division offices on implementation of the termination. The FHWA developed the Technical Brief for transportation agency use. It provided conclusions about the national experience with an alternative letter style and a discussion of the technical considerations that led to the termination of the Interim Approval.

¹ Technical Memorandum can be accessed at the following Web address: http://mutcd.fhwa.dot.gov/resources/interim_approval/ia5/ia5_termination.pdf.

² Technical Brief, “Manual on Uniform Traffic Control Devices for Streets and Highways: Termination of Interim Approval No. 5, Clearview Font for Positive Contrast Legends on Guide Signs,” can be accessed at the following Web address: http://mutcd.fhwa.dot.gov/resources/interim_approval/ia5/ia5_termtechbrief.pdf.

After the publication of the termination, FHWA received comments from stakeholders suggesting that FHWA should have solicited public comment prior to the termination. Other comments suggested that FHWA did not consider all relevant research that was available in making its decision. As a result, FHWA is publishing this RFI in order to gather any information or research that FHWA may not have been aware of when the termination was prepared.

RFI Guidelines

This is not a solicitation for comments on the termination of IA-5 or for experimentation requests. The purpose of this RFI is to gather information, if any, that was not previously available to FHWA. Respondents should not include any information that might be considered proprietary or confidential.

The FHWA requests quantitative information from State and local agencies specifically related to their use of the Clearview font. Examples of the types of information we are seeking include: State or agency practice, such as the technical standards applied, including any deviations from the conditions of IA-5; factors considered in deciding to convert to the Clearview letter style or to retain or revert to the Standard Alphabets; in-service legibility evaluations; factors related to sign design or manufacturing; safety performance; economic implications; any simultaneous improvements made when converting to Clearview, such as changes to retroreflective sheeting or increases in letter height; or other similar types of information.

Conclusion

The FHWA based the termination of IA-5 on available relevant information and research. To ensure that FHWA has access to any additional information, FHWA requests any additional information regarding experience with the use of alternative fonts or research not otherwise known that may be useful to FHWA be submitted for further consideration.

Authority: 23 U.S.C. 101(a), 104, 109(d), 114(a), 217, 315, and 402(a); 23 CFR 1.32; and 49 CFR 1.85.

Issued on: December 7, 2016.
Gregory G. Nadeau,
Administrator, Federal Highway Administration.

[FR Doc. 2016-29819 Filed 12-12-16; 8:45 am]

BILLING CODE 4910-22-P